DEPARTMENT OF ENERGY

Federal Energy Regulatory Commission

[Docket No. CP05-54-000]

Wyoming Interstate Company, Ltd.; Notice of Availability of the Draft Environmental Impact Statement for the Piceance Basin Expansion Project

April 29, 2005.

The environmental staff of the Federal Energy Regulatory Commission (FERC or Commission) has prepared a draft environmental impact statement (EIS) on the interstate natural gas pipeline transmission facilities proposed by Wyoming Interstate Company, Ltd. (WIC) in Moffat and Rio Blanco Counties, Colorado, and Sweetwater County, Wyoming, in the above-referenced docket.

The draft EIS was prepared to satisfy the requirements of the National Environmental Policy Act (NEPA). Its purpose is to inform the Commission, the public, and other permitting agencies about the potential adverse and beneficial environmental impacts associated with the proposed Piceance Basin Expansion Project (Piceance Project) and its alternatives, and to recommend practical, reasonable, and appropriate mitigation measures which would avoid or reduce any significant adverse impacts to the maximum extent practicable and, where feasible, to less than significant levels. The draft EIS concludes that the proposed project, with appropriate mitigating measures as recommended, would have limited adverse environmental impact.

The U.S. Department of Interior, Bureau of Land Management (BLM) is participating as a cooperating agency in the preparation of the draft EIS because the project would cross Federal lands under BLM administration in Wyoming and Colorado. The draft EIS will be used by the BLM to consider the issuance of a right-of-way (ROW) grant for the portion of the project on federal lands. While the conclusions and recommendations presented in the draft EIS were developed with input from the BLM as a cooperating agency, the BLM will present its own conclusions and recommendations in its Record of Decision for the project.

Proposed Project

The Piceance Project involves the construction and operation of a new interstate natural gas pipeline system that would extend between the existing Colorado Interstate Gas Company (CIG) Greasewood Compressor Station in Rio Blanco County, Colorado, and the existing CIG Wamsutter Compressor Station in Sweetwater County, Wyoming.¹

¹ Both WIC and CIG are affiliates owned by El Paso Corporation.

The draft EIS assesses the potential environmental effects of the construction and operation of the following facilities in Colorado and Wyoming:

• About 141.7 miles of 24-inch-diameter new pipeline with 89.8 miles located in Colorado (Rio Blanco and Moffat Counties) and 51.9 miles located in Wyoming (Sweetwater County);

• Additional compression to be installed at the existing CIG Greasewood Compressor Station in Colorado;

• Four meter stations at interconnections with other pipeline systems (two associated with the CIG Greasewood Compressor Station, two at the CIG Wamsutter Compressor Station);

• Three pigging facilities (one associated with each compressor station and a new facility at milepost 54.0 near County Road 4 in Moffat County, Colorado);

• Nine mainline valves (one valve at each of the two existing compressor stations and seven valves along the pipeline ROW); and

• Other associated facilities, such as access roads and communication towers.

The proposed project would be capable of transporting up to 350,000 dekatherms of natural gas per day (Dth/d) from the CIG Greasewood Compressor Station to interconnections at Wamsutter, Wyoming with the CIG and WIC interstate transmission pipeline systems that serve markets east and west of Wamsutter.

Comment Procedures and Public Meetings

Any person wishing to comment on the draft EIS may do so. To ensure consideration of your comments on the proposal in the final EIS, it is important that we receive your comments before the date specified below. Please follow these instructions carefully to ensure that your comments are received in time and are properly recorded:

• Send an original and two copies of your comments to: Magalie R. Salas, Secretary, Federal Energy Regulatory Commission, 888 First Street, NE., Room 1A, Washington, DC 20426;

• Reference Docket No. CP05-54-000;

• Label one copy of your comments for the attention of Gas Branch 1, PJ11.1; and

• Mail your comments so that they will be received in Washington, D.C. on or before June 20, 2005.

The Commission strongly encourages electronic filing of any comments or interventions or protests to this proceeding. See 18 Code of Federal Regulations (CFR) 385.2001(a)(1)(iii) and the instructions on the Commission's Web site at http://www.ferc.gov under the “e-Filing” link and the link to the User's Guide. Prepare your submission in the same manner as you would if filing on paper and save it to a file on your hard drive. Before you can file comments, you will need to create a free account, which can be created by clicking on “Login to File” and then “New User Account.”

In addition to or in lieu of sending written comments, the Commission invites you to attend a public comment meeting in the project area. Meetings are scheduled as shown below.

Schedule for Public Comment Meetings
Date and time | Location
Tuesday, June 7, 2005 at 7 p.m. (MST) | Moffat County Extension Office—CSU 539 Barclay Street, Craig, CO 81625.
Wednesday, June 8, 2005 at 7 p.m. (MST) | Desert School 235 Bugas, Wamsutter, WY 82336.
Thursday, June 9, 2005 at 7 p.m. (MST) | Fairfield Center 200 Main Street, Meeker, CO 81641.

Interested groups and individuals are encouraged to attend and present oral comments on the draft EIS. Transcripts of the meetings will be prepared.

After these comments are reviewed and considered, modifications will be made to the draft EIS and it will be published and distributed as a final EIS. The final EIS will contain responses to timely comments filed on the draft EIS.

Comments will be considered by the Commission but will not serve to make the commentor a party to the proceeding. Any person seeking to become a party to the proceeding must file a motion to intervene pursuant to Rule 214 of the Commission's Rules of Practice and Procedure (18 CFR 385.214). Only intervenors have the right to seek rehearing of the Commission's decision.

Anyone may intervene in this proceeding based on the draft EIS. You must file your request to intervene as specified above.² You do not need intervenor status to have your comments considered.

² Interventions may also be filed electronically via the Internet in lieu of paper. See the previous discussion on filing comments electronically.

The draft EIS has been placed in the public files of the FERC and is available for public inspection at: Federal Energy Regulatory Commission, Public Reference Room, 888 First Street, NE., Room 2A, Washington, DC 20426. (202) 502-8371.

A limited number of copies are available from the FERC's Public Reference Room identified above. In addition, copies of the draft EIS have been mailed to federal, state, and local agencies; public interest groups; individuals and affected landowners; libraries; newspapers; and parties to this proceeding.

Additional information about the proposed project is available from the Commission's Office of External Affairs, at 1-866-208-FERC or on the FERC Internet Web site (http://www.ferc.gov) using the “eLibrary” link. Click on the eLibrary link, click on “General Search” and enter the docket number excluding the last three digits (CP05-54) in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Information concerning the involvement of the BLM is available from Tom Hurshman, BLM Project Manager, at (970) 240-5345.

Linda Mitry,
Deputy Secretary.

[FR Doc. E5-2187 Filed 5-4-05; 8:45 am]

BILLING CODE 6717-01-P